DEPARTMENT OF LABOR

Employment and Training Administration

[TA-W-59,078]

Hexion Specialty Chemicals, Inc., FFP Division, Including On-Site Leased Workers of Express Personnel, High Point, NC; Notice of Revised Determination on Reconsideration

By application dated May 11, 2006, a worker requested administrative reconsideration regarding the Department's Negative Determination Regarding Eligibility to Apply for Worker Adjustment Assistance, applicable to workers of the subject firm. The Notice of Affirmative Determination Regarding Application for Reconsideration was issued on May 16, 2006, and was published in the Federal Register on May 25, 2006 (71 FR 30200). Workers produce wood adhesives and ancillary products.

In the request for reconsideration, the worker alleges that the subject firm supplied wood adhesive to customers affected by increased imports of wood furniture.

During the reconsideration investigation, the Department contacted the subject firm and was informed that the adhesive produced by the subject workers is a component of wood furniture.

Based on this new information, the Department conducted an investigation to determine whether the subject workers are eligible to apply for Trade Adjustment Assistance (TAA) as workers of a secondarily-affected company (supplier to a firm that employed workers who received a certification and such supply is related to the article that was the basis for such certification). As part of this investigation, the Department reviewed comprehensive information from the subject firm regarding 2004 and 2005 sales figures of wood adhesives.

A careful analysis of this information and a careful search of the TAA database revealed that a significant number of the sixteen major declining customers who were TAA certified during the relevant period had ceased production. Therefore, the Department determines that the loss of the business by those customers contributed importantly to the workers' separations at the subject firm.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act must be met. The Department has determined in the case at hand that the requirements of Section 246 have been met. A significant number of workers at the firm are age 50 or over and possess skills that are not easily transferable. Competitive conditions within the industry are adverse.

Conclusion

After careful review of the information obtained in the reconsideration investigation, I determine that workers of the subject firm qualify as adversely affected secondary workers under Section 222 of the Trade Act of 1974, as amended. In accordance with the provisions of the Act, I make the following certification:

All workers of Hexion Specialty Chemicals, Inc., FFP Division, High Point, North Carolina, including leased workers of Express Personnel working on site, who became totally or partially separated from employment on or after March 22, 2005 through two years from the date of this certification, are eligible to apply for adjustment assistance under Section 223 of the Trade Act of 1974, and are eligible to apply for alternative trade adjustment assistance under Section 246 of the Trade Act of 1974.

Signed in Washington, DC this 6th day of July 2006.
Elliott S. Kushner,
Certifying Officer, Division of Trade Adjustment Assistance.

[FR Doc. E6-11222 Filed 7-14-06; 8:45 am]

BILLING CODE 4510-30-P